ENVIRONMENTAL PROTECTION AGENCY

40 CFR Part 52

[EPA-R05-OAR-2020-0116; FRL-10013-83-Region 5]

Air Plan Approval; Illinois; Removal of Variance for Illinois Power Holdings and AmerenEnergy Medina Valley Cogen Facilities

AGENCY: Environmental Protection Agency (EPA).

ACTION: Proposed rule.

SUMMARY: The Environmental Protection Agency (EPA) is proposing to approve a revision to the Illinois State Implementation Plan (SIP) submitted on January 23, 2020, by the Illinois Environmental Protection Agency (IEPA). The revision removes the variance for coal-fired electrical generating units (EGUs) owned by the Illinois Power Holdings, LLC (IPH) and the AmerenEnergy Medina Valley Cogen, LLC (Medina Valley) from the Illinois SIP, and will reimpose tighter limits on all facilities currently in operation.

DATES: Comments must be received on or before October 19, 2020.

ADDRESSES: Submit your comments, identified by Docket ID No. EPA-R05-OAR-2020-0116 at http://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Charles Hatten, Environmental Engineer, Control Strategies Section, Air Programs Branch (AR-18J), Environmental Protection Agency, Region 5, 77 West Jackson Boulevard, Chicago, Illinois 60604, (312) 886-6031, hatten.charles@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. What is the background for this action?

On November 21, 2013, the Illinois Pollution Control Board (Board) granted IPH and Medina Valley a variance (PCB 14-10) from the applicable requirements for EGUs in the Ameren MPS Group (MPS Group) of 35 Illinois Administrative Code (IAC) Section 225.233(e)(3)(C)(iii) for a period beginning January 1, 2015, through December 31, 2019, and for EGUs in the MPS Group from 35 IAC Section 225.233(e)(3)(C)(iv) for a period beginning January 1, 2017, through December 31, 2019, subject to certain conditions. The five IPH facilities subject to the variance included: Coffeen Energy Center (Montgomery County), Duck Creek Energy Center (Fulton County), E.D. Edwards Energy Center (Peoria County), Joppa Energy Center (Massac County), and Newton Energy Center (Jasper County). The two Medina Valley facilities subject to the variance were the Meredosia Energy Center (Morgan County) and the Hutsonville Energy Center (Crawford County).

The variance granted by the Board established an overall SO2 annual emission rate of 0.35 pounds per million British Thermal Units (lbs/mmBtu) from January 1, 2015 through December 31, 2019. On December 21, 2015, EPA approved the variance granted to IPH and Medina Valley as a revision to the Illinois SIP. See 80 FR 79261. EPA determined that the variance would not interfere with the attainment, reasonable further progress (RFP), or any other applicable requirement of the Clean Air Act (CAA), and thus, was approvable under CAA section 110(l).

While the variance was in place, the MPS Group's annual reports provided by IEPA showed that the MPS Group's actual tons of SO2 emissions emitted (using the base line heat inputs) were substantially lower than the tons of SO2 emissions allowed by the variance (173,478−100,881 = 72,597 tons of benefit) from October 1, 2013 through August 31, 2016. Also, several EGUs were permanently retired in 2016. IPH permanently retired the operation of E.D. Edwards Unit 1 and Newton Unit 2, and Medina Valley permanently retired the Hutsonville Energy Center (Units 5 and 6) and the Meredosia Energy Center (Units 1, 2, 3, 4, and 5).

On September 2, 2016, IPH and Medina Valley filed a “Joint Motion to Terminate the Variance” with the Board. On October 27, 2016, the Board granted the “Joint Motion to Terminate the Variance,” and terminated the variance immediately. On January 23, 2020, Illinois submitted a request to EPA to remove the variance from the Illinois SIP.

II. What is EPA's analysis of the State's submittal?

EPA has analyzed the historical emissions data from the subject facilities and assessed the impacts from the removal of the variance. Absent the variance, SO2 emissions will be reduced by reimposing the more stringent limits in section 225.233. These reductions coupled with the permanent retirement of several EGUs will continue to reduce regional haze forming emissions in Illinois and regional haze impacts downwind.

EPA has also evaluated the potential air quality impacts of the removal of the variance from the Illinois SIP to ensure that the revision meets section 110(l) of the CAA, 42 U.S.C. 7410. To be approved, a SIP must not interfere with any applicable requirement concerning attainment, RFP, or any other applicable requirement of the CAA. Currently, all the facilities owned by IPH that were subject to the variance are in areas attaining the 2010 SO2 National Ambient Air Quality Standard (NAAQS). No emission increases from the facilities will result from the removal of the variance and will not adversely impact any nonattainment areas or air quality. Therefore, EPA finds that the SIP revision meets the CAA section 110(l) requirement as it will not interfere with attainment, RFP, or any other applicable CAA requirement. Thus, EPA is proposing to approve the removal of the variance from the Illinois SIP.

III. What action is EPA taking?

EPA is proposing to approve IEPA's January 23, 2020, request to remove PCB 14-10 from the Illinois SIP, for IPH and Medina Valley.

IV. Incorporation by Reference

In this document, EPA is proposing to amend regulatory text that includes incorporation by reference. As described in section III of this preamble, EPA is proposing to remove provisions of the EPA-Approved Illinois Source-Specific Requirements from the Illinois SIP, which is incorporated by reference in accordance with the requirements of 1 CFR part 51. EPA has made and will continue to make the Illinois SIP generally available through www.epa.gov/sips-il and at the EPA Region 5 Office (please contact the person identified in the For Further Information Contact section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, and Sulfur oxides.

Dated: September 2, 2020.
Kurt Thiede,
Regional Administrator, Region 5.

[FR Doc. 2020-19866 Filed 9-17-20; 8:45 am]

BILLING CODE 6560-50-P